DEPARTMENT OF COMMERCE

Foreign-Trade Zones Board

[Order No. 1881]

Expansion/Reorganization of Foreign-Trade Subzone 70T; Marathon Petroleum Company LP; Detroit, MI

Pursuant to its authority under the Foreign-Trade Zones Act of June 18, 1934, as amended (19 U.S.C. 81a-81u), the Foreign-Trade Zones Board (the Board) adopts the following Order:

Whereas, the Greater Detroit Foreign-Trade Zone, Inc., grantee of Foreign-Trade Zone 70, submitted an application to the Board for authority to expand Site 1 of Subzone 70T and remove Site 3 of the subzone at the Marathon Petroleum Company LP refinery in Detroit, Michigan. (B-42-2012, docketed 6/1/2012);

Whereas, notice inviting public comment has been given in the Federal Register (77 FR 33716-33717) and the application has been processed pursuant to the FTZ Act and the Board's regulations; and,

Whereas, the Board adopts the findings and recommendations of the examiner's report, and finds that the requirements of the FTZ Act and the Board's regulations are satisfied;

Now, therefore, the Board hereby orders:

The application to expand and reorganize Subzone 70T is approved, subject to the FTZ Act and the Board's regulations, including Section 400.13.

Signed at Washington, DC, this 6th day of February 2013.
Paul Piquado,
Assistant Secretary of Commerce for Import Administration, Alternate Chairman, Foreign-Trade Zones Board.

Attest:

Andrew McGilvray,
Executive Secretary.

[FR Doc. 2013-03352 Filed 2-12-13; 8:45 am]

BILLING CODE P